DEPARTMENT OF THE INTERIOR

National Park Service

Notice of Intent to Repatriate Cultural Items: Stephen F. Austin State University, Nacogdoches, TX

AGENCY: National Park Service, Interior.

ACTION: Notice.

Notice is here given in accordance with the Native American Graves Protection and Repatriation Act (NAGPRA), 25 U.S.C. 3005, of the intent to repatriate cultural items in the control of Stephen F. Austin State University, Nacogdoches, TX, that meet the definition of “unassociated funerary objects” under 25 U.S.C. 3001.

This notice is published as part of the National Park Service's administrative responsibilities under NAGPRA, 25 U.S.C. 3003 (d)(3). The determinations in this notice are the sole responsibility of the museum, institution, or Federal agency that has control of the Native American cultural items. The National Park Service is not responsible for the determinations in this notice.

A detailed assessment of the unassociated funerary objects was made by the professional staff of Archeological & Environmental Consultants, LLC, under a sub-contract with the Historic Preservation Program of the Caddo Nation of Oklahoma, which was under contract with Stephen F. Austin State University.

In 1957, 15 cultural items were removed from a pre-contact burial when workmen were excavating a grave site in Oak Grove Cemetery in Nacogdoches, Nacogdoches County, TX. This area was later determined to be part of the Washington Square Site (41NA49). The human remains from this burial were not saved and no known individuals were identified. The objects were placed in the Stone Fort Museum on the Stephen F. Austin State University campus. The objects are considered to be unassociated funerary objects and were moved to the repository of the Stephen F. Austin State University anthropology lab after 1975. The 15 unassociated funerary objects are 1 ceramic vessel and 14 chipped stone arrow points.

The unassociated funerary objects are determined to be affiliated with the Caddo Nation of Oklahoma. The ceramic and arrow point styles were identified as Caddo, dating from approximately A.D. 1200 to 1400.

Prior to 1977, human remains and cultural items were removed from 41NA113 (no site name) in Nacogdoches County, TX, by David Tucker, a private citizen. The human remains were not documented and the current location of the human remains is unknown. Since the whereabouts of the human remains is not known, the funerary objects are considered to be unassociated. The five unassociated funerary objects are two ceramic vessels, one long Olivella shell bead with a longitudinal perforation, and two small round light aqua glass beads.

The unassociated funerary objects from 41NA113 (no site name) were determined to be affiliated with the Caddo Nation of Oklahoma. The ceramic styles were identified as Caddo and date from A.D. 1500 to 1800. The glass beads date the burial to the time of European contact in the area.

In 1983, a burial with four ceramic vessels but no preserved human skeletal remains was excavated at 41PN48 (no site name) in the Martin Lake Mine in Panola County, TX. The four ceramic vessels are considered to be unassociated funerary objects because no human remains were preserved in the burial. Professional archeologists from Espey, Huston & Associates, Inc. excavated the burial. The four ceramic vessels were placed in the repository of the university's anthropology lab in 1984.

The unassociated funerary objects from 41PN48 (no site name) were determined to be affiliated with the Caddo Nation of Oklahoma. The ceramic styles were all identified as Caddo and date to after A.D. 1250. The small size of the ceramic vessels may suggest the burial of a child.

Prior to 1975, an unknown number of burials were excavated in the Greasy Creek area of Camp County, TX, by unknown individuals. The human remains are not in the university's collection. The exact date of when the unassociated funerary objects vessels were placed in the repository of the university's anthropology lab is not known because they were never accessioned. The unassociated funerary objects are two ceramic vessels.

The two unassociated funerary objects recovered from the Greasy Creek area were determined to be affiliated with the Caddo Nation of Oklahoma. The ceramic styles were identified as Caddo and date to A.D. 1400-1600.

In 1991, three ceramic vessels were removed from a single shovel test at site 41SY83 (unnamed site), in Shelby County, TX, by professional archeologists from Espey, Huston & Associates, Inc. The cultural items were recovered from 40-60 cm below ground surface; clay was encountered at 70 cm below ground surface. No human remains were observed, but the context of the three ceramic vessels was interpreted as a human burial. The ceramic vessels from 41SY83 are therefore, considered unassociated funerary objects.

The three unassociated ceramic vessels recovered from (unnamed site) 41SY83 were determined to be affiliated with the Caddo Nation of Oklahoma. The ceramic styles were all identified as Caddo and date to A.D. 1400-1600.

Sometime prior to 1975, burials were excavated near Alto in Cherokee County, TX, by unknown individuals. An unassociated funerary object from this excavation was placed in the Stone Fort Museum on the Stephen F. Austin University campus at an unknown date, and was moved to the repository of the university's anthropology lab after 1986. The unassociated funerary object is one ceramic vessel.

The unassociated funerary object recovered from Cherokee County was determined to be affiliated with the Caddo Tribe of Oklahoma. The style of the ceramic vessel is Caddo and dates to A.D. 1200-1400.

Prior to 1975, an unknown number of burials were excavated by unknown individuals in unknown counties of East Texas. The human remains are not in the possession of the university. The exact date of when these unassociated funerary objects were placed in the repository of the university's anthropology lab is not known, as these vessels were never accessioned. The unassociated funerary objects are two ceramic vessels.

The two unassociated funerary objects were determined to be affiliated with the Caddo Nation of Oklahoma. The style of the ceramic vessels is Caddo and dates to A.D. 1400-1600.

Officials of the Stephen F. Austin State University also have determined that, pursuant to 25 U.S.C. 3001 (3)(B), the 32 objects described are reasonably believed to have been placed with or near individual human remains at the time of death or later as part of the death rite or ceremony. Officials of the Stephen F. Austin State University also have determined that, pursuant to 25 U.S.C. 3001 (2), there is a relationship of shared group identity that can be reasonably traced between the unassociated funerary objects and the Caddo Nation of Oklahoma.

Representatives of any other Indian tribe that believes itself to be culturally affiliated with the unassociated funerary objects should contact Dr. Jerry Williams, Stephen F. Austin State University, P.O. Box 13047, SFA Station, Nacogdoches, TX 75962, telephone (936) 468-2306, before March 29, 2010. Repatriation of the unassociated funerary objects to the Caddo Nation of Oklahoma may proceed after that date if no additional claimants come forward.

Stephen F. Austin State University is responsible for notifying the Caddo Nation of Oklahoma that this notice has been published.

Dated: January 22, 2010
Sherry Hutt,
Manager, National NAGPRA Program.

[FR Doc. 2010-3768 Filed 2-24-10; 8:45 am]

BILLING CODE 4312-50-S